INTERNATIONAL TRADE COMMISSION

[Investigation No. 332-417]

Advice on Providing Additional GSP Benefits for Sub-Saharan Africa

AGENCY: United States International Trade Commission.

ACTION: Institution of investigation and scheduling of public hearing.

EFFECTIVE DATE: June 15, 2000.

SUMMARY: Following receipt of a request on May 22, 2000, from the United States Trade Representative (USTR), the Commission instituted Investigation No. 332-417, Advice on Providing Additional GSP Benefits for Sub-Saharan Africa, under section 332(g) of the Tariff Act of 1930 (19 U.S.C. 1332(g)).

As requested by USTR pursuant to section 332 (g) of the Tariff Act of 1930 and in accordance with sections 503(a)(1)(B), 503(e) and 131(a) of the Trade Act of 1974, as amended (1974 Act), the Commission will provide advice as to the probable economic effect on U.S. industries producing like or directly competitive articles, and on consumers, of the elimination of U.S. import duties under the Generalized System of Preferences (GSP) for 1,897 articles from potential beneficiary sub-Saharan African countries.

As requested by USTR, the Commission will assume that the benefits of the GSP would continue to apply to imports that normally would be excluded from receiving such benefits by virtue of the competitive need limits specified in section 503(c)(2)(A) of the 1974 Act (an exemption from the application of the competitive need limits for the beneficiary sub-Saharan African countries is provided for in section 503(c)(2)(D) of the 1974 Act).

As requested by USTR, the Commission expects to submit its report by October 2, 2000. The Commission will publish shortly thereafter a public version of the report, deleting the information that has been classified by USTR or which the Commission considers to be confidential business information.

FOR FURTHER INFORMATION CONTACT: Industry information may be obtained from Robert Wallace (202-205-3458), Melani Schultz (202-205-3436), or Kim Freund (202-708-5402) of the Office of Industries and on legal aspects from William Gearhart, Office of the General Counsel (202-205-3091). The media should contact Margaret O'Laughlin, Public Affairs Officer (202-205-1819). Hearing impaired individuals are advised that information on this matter can be obtained by contacting the TDD terminal on (202-205-1810).

Background

In her letter to the Commission, the USTR noted that the Trade Policy Staff Committee, pursuant to legislation, has determined to institute an investigation and request the advice of the Commission on the designation of certain articles as eligible articles under the GSP only for countries designated as beneficiary sub-Saharan African countries for purposes of the GSP program. On May 18, 2000, the President signed legislation amending the GSP provisions under the 1974 Act for beneficiary sub-Saharan African countries (Pub. L. 106-200, 114 Stat. 251) (Trade and Development Act of 2000'for the GSP-related provisions, see subtitle B of title I of the Act). The legislation permits the President to provide the 48 potential beneficiary sub-Saharan African countries with GSP duty-free treatment for any article described in section 503(b)(1)(B) through (G) of Title V of the 1974 Act, which identifies categories of “import-sensitive articles” excluded from GSP eligibility, if, after receiving advice from the Commission, the President determines that such articles are not import-sensitive in the context of imports from beneficiary countries. The items identified for consideration of GSP eligibility for sub-Saharan African countries exclude sections 503(b)(1)(A) and 503(b)(2) of Title V of the Trade Act of 1974, relating to textiles and apparel, and agricultural products over tariff-rate quotas. The articles for which the Commission will provide probable economic effect advice are as follows:

(B) Watches, except those that will cause material injury to watch or watch band strap or bracelet manufacturing and assembly operations in the United States or the United States insular possessions;

(C) Import-sensitive electronic articles;

(D) Import-sensitive steel articles;

(E) Footwear, handbags, luggage, flat goods, work gloves, and leather wearing apparel;

(F) Import-sensitive semimanufactured and manufactured glass products; and

(G) Any other articles which the President has determined to be import sensitive in the context of GSP.

As requested by USTR, the Commission will provide its probable economic effect advice in terms of the 8-digit subheadings of the Harmonized Tariff Schedule of the United States (HTS) providing for the above referenced articles. Many of these articles are already designated as eligible for GSP for least developed beneficiary countries. A list of the articles by HTS subheadings and a list of the 48 potential beneficiary countries in sub-Saharan Africa are available from the Office of the Secretary or may be obtained from the Commission's Internet site at http://www.usitc.gov.

Public Hearing

A public hearing in connection with the investigation will be held at the U.S. International Trade Commission Building, 500 E Street SW, Washington, DC, beginning at 9:30 a.m. on July 27, 2000, and continuing on July 28, 2000, if necessary. All persons shall have the right to appear, by counsel or in person, to present information and to be heard. Requests to appear at the public hearing should be filed with the Secretary, United States International Trade Commission, 500 E Street SW, Washington, DC 20436, no later than 5:15 p.m., July 7, 2000. Any prehearing briefs (original and 14 copies) should be filed not later than 5:15 p.m., July 18, 2000. The deadline for filing post-hearing briefs or statements is 5:15 p.m., August 3, 2000. In the event that, as of the close of business on July 7, 2000, no witnesses are scheduled to appear at the hearing, the hearing will be canceled. Any person interested in attending the hearing as an observer or non-participant may call the Secretary of the Commission (202-205-1806) after July 7, 2000, to determine whether the hearing will be held.

Written Submissions

In lieu of or in addition to participating in the hearing, interested parties are invited to submit written statements (original and 14 copies) concerning the matters to be addressed by the Commission in its report on this investigation. Commercial or financial information that a person desires the Commission to treat as confidential must be submitted on separate sheets of paper, each clearly marked “Confidential Business Information” at the top. All submissions requesting confidential treatment must conform with the requirements of section 201.6 of the Commission's Rules of Practice and Procedure (19 CFR 201.6). The Commission's Rules do not authorize filing of submissions with the Secretary by facsimile or electronic means. All written submissions must conform with the provisions of section 201.8 of the Commission's Rules. All written submissions, except for confidential business information, will be made available in the Office of the Secretary of the Commission for inspection by interested parties. To be assured of consideration by the Commission, written statements relating to the Commission's report should be submitted to the Commission at the earliest practical date and should be received no later than the close of business on August 3, 2000. All submissions should be addressed to the Secretary, United States International Trade Commission, 500 E Street SW, Washington, DC 20436.

Persons with mobility impairments who will need special assistance in gaining access to the Commission should contact the Office of the Secretary at 202-205-2000. General information concerning the Commission may also be obtained by accessing its Internet server (http://www.usitc.gov).

List of Subjects

GSP, sub-Saharan Africa, tariffs, and imports.

Issued: June 15, 2000.
By order of the Commission.
Donna R. Koehnke,
Secretary.

[FR Doc. 00-15694 Filed 6-21-00; 8:45 am]

BILLING CODE 7120-02-P